DEPARTMENT OF TRANSPORTATION

Federal Aviation Administration

Seventh Meeting of SC-233 Addressing Human Factors/Pilot Interface Issues for Avionics

AGENCY: Federal Aviation Administration (FAA), U.S. Department of Transportation (DOT).

ACTION: Seventh Meeting of the SC-233 addressing human factors/pilot interface issues for avionics.

SUMMARY: The FAA is issuing this notice to advise the public of a meeting of Seventh Meeting of SC-233 Addressing Human Factors/Pilot Interface Issues for Avionics.

DATES: The meeting will be held September 27-29, 2016, 9:00 a.m. to 4:30 p.m.

ADDRESSES: The meeting will be held at: 1150 18th Street NW., Suite 910, Washington, DC 20036.

FOR FURTHER INFORMATION CONTACT: Jennifer Iversen at jiversen@rtca.org or (202) 330-0662, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Seventh Meeting of the SC-233, Addressing Human Factors/Pilot Interface Issues for Avionics. The agenda will include the following:

September 27-29, 2016, 9:00 a.m. to 4:30 p.m.

Tuesday September 27, 2016

AM

• Introduction, Upcoming PMC Dates and Deliverable

• Review of TOR

• June meeting summary

• Roadmap for remaining items to be completed; notional schedule of activities remaining

• Consensus on document review process

PM

• Overview of the combined document and initial feedback

• Detailed review of document and identification of work to be done

Wednesday September 28, 2016

• Working Groups Break Out Sessions

• End of the Day Working Group Status Report Outs

Thursday September 29, 2016

AM

• Working Groups Break Out Session

PM

• Working Group Status

1. Working group leader reports

2. Follow-on actions

• Meeting Recap, Action Items, Key Dates

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 1, 2016.
Mohannad Dawoud,
Management & Program Analyst, Partnership Contracts Branch, ANG-A17, NextGen, Procurement Services Division, Federal Aviation Administration.

[FR Doc. 2016-21403 Filed 9-2-16; 8:45 am]

BILLING CODE 4910-13-P